NATIONAL AERONAUTICS AND SPACE ADMINISTRATION

[Notice: (20-042)]

NASA Advisory Council; Human Exploration and Operations Committee; Meeting

AGENCY: National Aeronautics and Space Administration

REF: Federal Register/Vol. 85, No. 60/Friday, March 27, 2020/Notices; pages 17368-17369.

ACTION: Notice of meeting postponement.

SUMMARY: In accordance with the Federal Advisory Committee Act, the National Aeronautics and Space Administration (NASA) announces that the planned meeting on April 14-15, 2020, of the Human Exploration and Operations Committee of the NASA Advisory Council is being postponed until further notice. This meeting was announced in the Federal Register on March 27, 2020 (see reference above). NASA will announce the new dates for this meeting in a future Federal Register notice.

Patricia Rausch,
Advisory Committee Management Officer, National Aeronautics and Space Administration.

[FR Doc. 2020-07697 Filed 4-10-20; 8:45 am]

BILLING CODE 7510-13-P